DEPARTMENT OF HEALTH AND HUMAN SERVICES

Centers for Disease Control and Prevention

[60Day-13-13RE]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to Ron Otten, at 1600 Clifton Road, MS D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Public Health Systems, Mental Health and Community Recovery—New—Office of Public Health Preparedness and Response, Division of State and Local Readiness, Centers for Disease Control and Prevention (CDC).

Background and Brief Description

This project stems from, and aligns with, publication of the Office of Public Health Preparedness and Response's (OPHPR) “National Strategic Plan for Public Health Preparedness and Response” which provides overall direction for Centers for Disease Control and Prevention's (CDC) preparedness and response portfolio, including programmatic direction across OPHPR's four divisions. The focus of this project is to generate findings useful for future preparedness planning and response in order to develop strategies and interventions aimed at mitigating the impact of adverse events. In April 2011, one of the largest tornado outbreaks ever recorded, a “Super Outbreak,” occurred in the southeastern United States, resulting in more than 300 deaths and an estimated $11 million in damages. This large-scale multistate tragedy offers a unique opportunity to study how communities with similar cultural and geographic features yet different public health and mental health emergency response systems could provide access to care around the same crisis. The outcomes of these efforts can inform the field of what effect these differences had on the recovery patterns of each of these communities. By doing so, we can begin to elucidate best practices for robust community preparedness and recovery with attention to types of services that most effectively promote the natural resilience of survivors. Two primary research questions will guide the proposed study:

1. How did the Alabama and Mississippi State and local public health and mental health (PH/MH) systems prepare for, respond to, and support recovery after the April 2011 tornados?

2. To what extent have these communities recovered and what is the overall health and quality of life of individuals affected by these events?

CDC requests Office of Management and Budget (OMB) approval to collect information for two years.

To address these questions, CDC, in collaboration with ICF International, will conduct a mixed method evaluation utilizing key informant interviews of public health and mental health agency staff and other community representatives at the local, county and State levels and household survey data in each of the four regions in Mississippi and Alabama to assess community recovery and resilience. Specifically, the study design includes two main components (qualitative and quantitative) designed to comprehensively examine the PH/MH system response to and community recovery and resilience from disasters.

The total estimated burden for the 98 one-time qualitative interviews for public health/mental health professionals and community leaders is 98 hours (98 respondents × 1 hour/response). Interviews will be conducted during an in-person site-visit to the region to reduce travel and time burdens on the respondents. Respondents unable to participate during the site visit may participate via telephone. In addition, the total estimated burden for the quantitative computer-assisted interviews are based on 860 respondents in each of the four tornado effected regions; each survey will be approximately 25 minutes (4 counties × 860 respondents = 3,440 respondents; 3,440 respondents × 25/60 minutes = 1,433 hours). In total, this will be approximately 1,531 hours.

There are no costs to respondents other than their time.

Estimated Annualized Burden Hours
Type of respondents | Form name | Number of respondents | Number of responses per respondent | Average burden per response (in hrs.) | Total burden (in hrs.)
Mental Health/Public Health Agency Staff and Community Leaders | Community Recovery Interview Guide | 98 | 1 | 1 | 98
General Public from Disaster affected communities | Public Health Systems, Mental Health and Community Recovery Household Survey | 3,440 | 1 | 25/60 | 1,433
Total |  |  |  |  | 1,531

Ron A. Otten,
Director, Office of Scientific Integrity, Office of the Associate Director for Science, Office of the Director. Centers for Disease Control and Prevention.

[FR Doc. 2013-09992 Filed 4-26-13; 8:45 am]

BILLING CODE 4163-18-P